DEPARTMENT OF ENERGY

Federal Energy Regulatory Commission

[Project No. 8412-003]

Ronald W. and Kathryn C. Denney; Notice of Availability of Environmental Assessment

November 28, 2007.

In accordance with the National Environmental Policy Act of 1969 and the Federal Energy Regulatory Commission's (Commission) regulations, 18 CFR part 380 (Order No. 486, 52 FR 47897), the Office of Energy Projects' staff has prepared an Environmental Assessment (EA) for a surrender of exemption from licensing for the Coiner Mill Project. The project is located on the South River in Augusta County, Virginia.

The EA contains the staff's analysis of the potential environmental impacts of the proposal and concludes that the surrender of the project's exemption from licensing would not constitute a major federal action significantly affecting the quality of the human environment.

A copy of the EA is available for review and reproduction at the Commission's Public Reference Room, located at 888 First Street, NE., Room 2A, Washington, DC 20426. The EA may also be viewed on the Commission's Web site at http://www.ferc.gov using the e-library link. Enter the docket number (prefaced by P-) and excluding the last three digits, in the docket number field to access the document. For assistance, contact FERC Online Support at FERCOnlineSupport@ferc.gov or toll-free at (866) 208-3676, or for TTY, contact (202) 502-8659.

Kimberly D. Bose,
Secretary.

[FR Doc. E7-23623 Filed 12-5-07; 8:45 am]

BILLING CODE 6717-01-P